ENVIRONMENTAL PROTECTION AGENCY

[FRL-9306-6]

Cancellation of the Local Government Advisory Committee Meeting

AGENCY: Environmental Protection Agency (EPA).

ACTION: Cancellation of the Local Government Advisory Committee (LGAC) meeting.

SUMMARY: The Office of Congressional and Intergovernmental Relations (OCIR) is issuing this notice to cancel the May 18-19, 2011 Local Government Advisory Committee (LGAC) Meeting. The notice of this meeting was previously published in the Federal Register on Thursday, April 21, 2011 (76 FR 22394).

SUPPLEMENTARY INFORMATION: EPA announced in the Federal Register on April 21, 2011 (76 FR 22394) a Local Government Advisory Committee (LGAC) Meeting to be held at U.S. EPA Region 5, Ralph Metcalfe Federal Building, Lake Superior conference room, 77 West Jackson Blvd., Chicago, Illinois. This meeting has been cancelled due to lack of a confirmed quorum of members' attendance. Federal Advisory Committee Act (FACA) regulations require that no deliberation or voting can take place absent of a quorum. The LGAC meeting is soon to be rescheduled for a later date. Further information regarding this meeting can be obtained by contacting Paula Zampieri, DFO for the Local Government Advisory Committee (LGAC) at (202) 566-2496 or Zampieri.Paula@epa.gov.

ADDRESSES: The LGAC meeting will be held at U.S. EPA Region 5, Ralph Metcalfe Federal Building, Lake Superior conference room, 77 West Jackson Blvd., Chicago, Illinois.

FOR FURTHER INFORMATION CONTACT: Committee members and members of the public needing further information concerning this cancellation notice or any future meetings should contact Ms. Paula Zampieri, Designated Federal Officer (DFO) for the Local Government Advisory Committee (LGAC) at (202) 566-2496 or e-mail at Zampieri.Paula@epa.gov.

Information on Services for Those with Disabilities: For Information on access or services for individuals with disabilities, please contact Paula Zampieri at (202) 566-2496 or Zampieri.Paula@epa.gov. To request accommodation of a disability, please request it 10 days prior to the meeting, to give EPA as much time as possible to process your request.

Dated: May 5, 2011.
Paula Zampieri,
Designated Federal Officer, Local Government Advisory Committee.

[FR Doc. 2011-11940 Filed 5-13-11; 8:45 am]

BILLING CODE 6560-50-P